DEPARTMENT OF LABOR

Employment and Training Administration

[TA-W-54,572]

GE Consumer Finance America, A Subsidiary of GE Capital Corporation, Canton, OH; Dismissal of Application for Reconsideration

Pursuant to 29 CFR 90.18(C), an application for administrative reconsideration was filed with the Director of the Division of Trade Adjustment Assistance for workers at GE Consumer Finance America, a subsidiary of GE Capital Corporation, Canton, Ohio. The application contained no new substantial information which would bear importantly on the Department's determination. Therefore, dismissal of the application was issued.

TA-W-54,572; GE Consumer Finance America, a subsidiary of GE Capital Corporation, Canton, Ohio (July 8, 2004).

Signed at Washington, DC, this 9th day of July, 2004.
Timothy Sullivan,
Director, Division of Trade Adjustment Assistance.

[FR Doc. 04-16299 Filed 7-16-04; 8:45 am]

BILLING CODE 4510-30-P